DEPARTMENT OF THE TREASURY

Financial Management Service

Privacy Act of 1974; System of Records

AGENCY: Financial Management Service, Treasury.

ACTION: Notice of alterations to three Department of the Treasury, Financial Management Service (FMS), Privacy Act Systems of Records.

SUMMARY: In accordance with the Privacy Act of 1974 (5 U.S.C. 552a), the Department of the Treasury, Financial Management Service (FMS), gives notice of proposed alterations to three of its existing systems of records, as follows: “Treasury/FMS .002—Payment Issue Records for Regular Recurring Benefit Payments,” “Treasury/FMS .014—Debt Collection Operations System,” and Treasury/FMS .016—Payment Records for Other Than Regular Recurring Benefit Payments.”

DATES: Comments must be received no later than March 28, 2003. The proposed systems of records will be effective April 7, 2003 unless FMS receives comments which would result in a contrary determination.

ADDRESSES: Comments must be submitted to the Debt Management Services, Financial Management Service, 401 14th Street, SW., Room 448B, Washington, DC 20227, or by electronic mail to gerald.isenberg@fms.treas.gov. Comments received will be available for inspection at the same address between the hours of 9 a.m. and 4 p.m. Monday through Friday.

FOR FURTHER INFORMATION CONTACT: Gerry Isenberg, Financial Management Service, Debt Management Services, (202) 874-7131.

SUPPLEMENTARY INFORMATION: The Financial Management Service (FMS) is the money manager for the Federal Government. As such, FMS disburses over 900 million payments totaling more than $1.2 trillion in social security and veterans' benefits, income tax refunds, and other federal payments. In addition, FMS operates several programs to facilitate collection or resolution of delinquent debts owed to the Federal Government and states, including past due support being enforced by states. In the operation of its payment and debt collection programs, FMS maintains records on individuals who receive payments from the Federal Government, as well as individuals who owe delinquent debts to the Federal Government and states. Records on individuals who receive Federal payments are maintained in FMS's “Payment Issue Records for Regular Recurring Benefit Payments,” and “Payment Records for Other Than Regular Recurring Benefit Payments.” Records on individuals who owe delinquent debts are maintained in its “Debt Collection Operations System” system of records. The systems of records were last published in the Federal Register in their entirety on August 22, 2001, beginning in 66 FR 44204.

In keeping with the Government's policy to rely on commercial sources to supply the products and services the Government needs, FMS sometimes retains the services of contractors to perform certain routine functions related to payment and debt collection processing. Disclosures of information maintained in FMS” systems of records may be required in order for the contractor to perform the services for which it has been hired. If disclosure is necessary, the contractor to which disclosure is made will be subject to the same limitations applicable to FMS officers and employees under the Privacy Act. This means that the contractor is required to safeguard Privacy Act information to prevent unauthorized use or disclosure of any Privacy Act records. FMS is altering the referenced systems of records to allow disclosure of information from such systems to a private contractor to the extent necessary for the contractor to accomplish an FMS function related to payment processing and/or debt collection.

The report required by 5 U.S.C. 552a(r) of the Privacy Act, has been submitted to the Committee on Government Reform and Oversight of the House of Representatives, the Committee on Governmental Affairs of the Senate, and the Office of Management and Budget, pursuant to Appendix I to OMB Circular A-130, Federal Agency Responsibilities for Maintaining Records About Individuals, dated November 30, 2000.

For the reasons set forth above, FMS proposes to alter its systems of records as follows:

TREASURY/FMS .002

System name:

Payment Issue Records for Regular Recurring Benefit Payments—Treasury/Financial Management Service.

Description of change: Remove current entry and add the following to read as follows:

System location:

“The Financial Management Service, U.S. Department of the Treasury, Washington, DC 20227 and Hyattsville, MD 20782. Records maintained at Financial Centers in five regions: Austin, TX; Birmingham, AL; Kansas City, MO; Philadelphia, PA; and San Francisco, CA.”

* * * * *

Routine uses of records maintained in the system, including categories of users and purposes of such uses:

* * * * *

Description of change: The period “.” at the end of routine use (13) is replaced with a semicolon “;”, and the following routine use is added at the end thereof:

“(14) Disclose information to a contractor of the Financial Management Service for the purpose of performing routine payment processing services, subject to the same limitations applicable to FMS officers and employees under the Privacy Act.”

* * * * *

TREASURY/FMS .014

System name:

Debt Collection Operations System-Treasury/Financial Management Service.

* * * * *

Routine uses of records maintained in the system, including categories of users and purposes of such uses:

* * * * *

Description of change: The period “.” at the end of routine use (8) paragraph c is replaced with a semicolon “;”, and the following language is added before the period “.”:

(8) c. * * *

“including for the provision of routine debt collection services by an FMS contractor subject to the same limitations applicable to FMS officers and employees under the Privacy Act.”

* * * * *

TREASURY/FMS .015

System name:

Payment Records for Other Than Regular Recurring Benefit Payments—Treasury/Financial Management Service.

Description of change: Remove current entry and add the following to read as follows:

System location:

“The Financial Management Service, U.S. Department of the Treasury, Washington, DC 20227 and Hyattsville, MD 20782. Records maintained at Financial Centers in five regions: Austin, TX; Birmingham, AL; Kansas City, MO; Philadelphia, PA; and San Francisco, CA.”

* * * * *

Routine uses of records maintained in the system, including categories of users and purposes of such uses:

* * * * *

Description of change: The period “.” at the end of routine use (13) is replaced with a semicolon “;”, and the following routine use is added at the end thereof:

“(14) Disclose information to a contractor of the Financial Management Service for the purpose of performing routine payment processing services, subject to the same limitations applicable to FMS officers and employees under the Privacy Act.”

* * * * *

Dated: February 11, 2003.
W. Earl Wright, Jr.,
Chief Management and Administrative Program Officer.

[FR Doc. 03-4457 Filed 2-25-03; 8:45 am]

BILLING CODE 4810-35-P